DEPARTMENT OF VETERANS AFFAIRS

[OMB Control No. 2900—NEW (10-10139)]

Proposed Information Collection (PACT Evaluating Peer Notifications To Improve Statin Medication Adherence Among Patients With Coronary Artery Disease); Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to evaluate the project aims to enhance PACT implementation by evaluating the effects of the VA PACT initiative and by test new, innovative strategies for patient care that can be spread if proven effective.

DATES: Written comments and recommendations on the proposed collection of information should be received on or before February 3, 2015.

ADDRESSES: Submit written comments on the collection of information through Federal Docket Management System (FDMS) at www.Regulations.gov; or Audrey Revere, Office of Regulatory and Administrative Affairs, Veterans Health Administration (10B4), Department of Veterans Affairs, 810 Vermont Avenue NW., Washington, DC 20420 or email: Audrey.revere@va.gov. Please refer to “OMB Control No. 2900—NEW (PACT Evaluating Peer Notifications to Improve Statin Medication Adherence among Patients with Coronary Artery Disease)” in any correspondence. During the comment period, comments may be viewed online through the FDMS.

FOR FURTHER INFORMATION CONTACT: Audrey Revere at (202) 461-5694.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: PACT Evaluating Peer Notifications to Improve Statin Medication Adherence among Patients with Coronary Artery Disease, VA Form 10-10139.

OMB Control Number: 2900—NEW.

Type of Review: New data collection.

Abstract: Despite the importance of medication adherence, we have few effective tools to help patients improve taking their medications. One strategy to improve medication adherence is using newer technology to make engagement with patients significantly easier and more immediate. These studies evaluating how best to use these technologies and engage different support providers (family/friends/or peers) to improve medication adherence.

Affected Public: Individuals or households.

Estimated Annual Burden: 336 burden hours.

Estimated Average Burden per Respondent: 90 minutes.

Frequency of Response: Once annually.

Estimated Number of Respondents: 224.

By direction of the Secretary.
Crystal Rennie,
Department Clearance Officer, Department of Veterans Affairs.

[FR Doc. 2014-28556 Filed 12-4-14; 8:45 am]

BILLING CODE 8320-01-P